GOVERNMENT ACCOUNTABILITY OFFICE

Request for Medicare Payment Advisory Commission (MedPAC) Nominations

AGENCY: U.S. Government Accountability Office.

ACTION: Request for letters of nomination and resumes.

SUMMARY: The Balanced Budget Act of 1997 established the Medicare Payment Advisory Commission (MedPAC) and gave the Comptroller General responsibility for appointing its members. The U.S. Government Accountability Office (GAO) is now accepting nominations for MedPAC appointments that will be effective in May 2023. Nominations should be sent to the email address listed below. Acknowledgement of receipt will be provided within a week of submission.

DATES: Letters of nomination and resumes should be submitted no later than February 10, 2023, to ensure adequate opportunity for review and consideration of nominees prior to appointment.

ADDRESSES: Submit letters of nomination and resumes to MedPACappointments@gao.gov.

FOR FURTHER INFORMATION CONTACT: Gregory Giusto at (202) 512-8268 or giustog@gao.gov if you do not receive an acknowledgement or need additional information. For general information, contact GAO's Office of Public Affairs at (202) 512-4800.

(Authority: 42 U.S.C. 1395b-6)

Gene L. Dodaro,
Comptroller General of the United States.

[FR Doc. 2022-27734 Filed 1-9-23; 8:45 am]

BILLING CODE 1610-02-P